DEPARTMENT OF DEFENSE

Department of the Army

Notice of Availability of the Record of Decision for Army Growth and Force Structure Realignment

AGENCY: Department of the Army, DoD.

ACTION: Notice of Availability (NOA).

SUMMARY: The Department of the Army announces the availability of the Record of Decision (ROD) for Army Growth and Force Structure Realignment. This ROD announces the Army's decisions for growing and realigning U.S. Army forces within the Continental United States (CONUS). Pursuant to the National Environmental Policy Act (NEPA), the Department of the Army prepared a Programmatic Environmental Impact Statement (PEIS) that evaluated the potential environmental and socio-economic effects associated with alternatives for Army growth and realignment. In the Final PEIS, which was published on 26 OCT, 2007, the Army identified Alternative Three as the preferred alternative. The Record of Decision explains that the Army will proceed with its preferred alternative, Alternative Three. This alternative best supports Army Modular Transformation; implements Global Defense Posture Realignment (GDPR) decisions; adds the necessary Combat Support and Combat Service Support Soldiers to the Active and Reserve components of the Army; and grows the Army by six Active component Brigade Combat Teams (BCTs) and fifteen Active and Reserve component support brigades. Each of the BCTs will be Infantry BCTs. In addition, the PEIS analysis was used to relocate a Maneuver Enhancement Brigade (MEB) headquarters and two Heavy Brigade Combat Teams (HBCTs). The HBCTs will be activated in Germany and retained until FY12 and FY13 before returning to the United States. A return of these BCTs to the United States is not a part of previous decisions to implement Base Realignment and Closure (BRAC) 2005. This decision and analysis within this PEIS do not include BRAC 2005 stationing actions, which are considered part of the baseline condition for analysis. This decision will result in a total growth in Army forces by approximately 74,200 Soldiers, and will realign forces to improve readiness and responsiveness to meet future challenges.

ADDRESSES: Comments or questions regarding the ROD can be sent to the Public Affairs Office, U.S. Army Environmental Command, Building E4460, Attention: IMAE-PA 5179 Hoadley Road, Aberdeen Proving Ground, MD 21010-5401.

FOR FURTHER INFORMATION CONTACT: Public Affairs Office at (410) 436-2556; facsimile at (410) 436-1693 (during normal business hours Monday through Friday).

SUPPLEMENTARY INFORMATION: In January 2007, President Bush asked Congress for authority to increase the overall strength of the Army by 74,200 Soldiers over the next five years. This growth will mitigate shortages in units, Soldiers, and time to train that would otherwise inhibit the Army from meeting readiness goals and supporting strategic requirements. In September 2007, the Secretary of Defense approved the Army's proposal to accelerate growth for the Active component and Army National Guard. The Army must grow, adjust its force structure, and station its units and Soldiers to meet the strategic requirements of the contemporary global security environment.

The Final PEIS examined major Army installations within CONUS and their ability to support new unit stationing actions in connection with growth and realignment. The Final PEIS provided the Army Senior Leadership with an assessment of environmental and socio-economic impacts that would be associated with these actions in addition to the feedback and concerns of the public. This information was considered as part of the decision-making process for selecting the final stationing locations for new units.

Stationing decisions included in the ROD for Army Growth and Force Structure Realignment include: retaining one IBCT at Ft Carson, CO as the 43rd BCT in Fiscal Year (FY) 08; activating the 44th BCT at Ft Bliss, TX in FY09; converting one Heavy Brigade Combat Team (HBCT) to an IBCT at Ft Stewart, GA in FY10; and growing three IBCTs in FY11, one each at Ft Stewart, GA, Ft Carson, CO, and Ft Bliss, TX. Two BCTs stationed in Germany will relocate back to CONUS in FY12 and 13, respectively. These units are selected for stationing at Ft Bliss, TX and White Sands Missile Range, NM. The Army will also activate eight Active component support brigades and restation two others. These actions will occur at the following locations: In FY08, an Air Defense Artillery Brigade headquarters activates at Ft Hood, TX; in FY09, a Maneuver Enhancement Brigade (MEB) activates at Ft Leonard Wood, MO; in FY10 a Fires Brigade activates at Ft Bliss, TX; in FY11, an Expeditionary Sustainment Command Headquarters activates at Ft Lewis, WA, and a Sustainment Brigade activates at Ft Hood, TX; in FY13, a (BfSB) activates at Ft Polk, LA and a MEB will be restationed to Fort Drum, NY.

The restationing of a MEB is tentatively being considered for Fort Richardson, AK in FY 2010. The Army is considering the stationing of an Engineer Brigade and a Military Police Brigade at Schofield Barracks, HI. These actions will ensure the proper balance of combat support units and command and control functions are available in the Pacific theater to support training and operational requirements. A final decision on these actions will not be made until a supplemental NEPA analysis is completed to analyze impacts of stationing actions in the Pacific theater.

A copy of the ROD and Final PEIS are available at http://www.aec.army.mil.

Addison D. Davis, IV,
Deputy Assistant Secretary of the Army (Environment, Safety and Occupational Health).

[FR Doc. 07-6222 Filed 1-4-08; 8:45 am]

BILLING CODE 3710-08-M